DEPARTMENT OF COMMERCE

National Oceanic and Atmospheric Administration

Draft Environmental Assessment for the Installation of a High Frequency Radar at Hightower Park in Satellite Beach, Florida

AGENCY: National Oceanic and Atmospheric Administration (NOAA), U.S. Department of Commerce.

ACTION: Notice of Availability; Request for Comments.

SUMMARY: NOAA has prepared a draft environmental assessment (EA) for the installation of a high frequency radar at Hightower Park in Satellite Beach, Florida. We are making the environmental assessment available to the public for review and comment.

DATES: Written comments must be submitted on or before August 25, 2022.

ADDRESSES: The Draft EA is available online at https://ioos.noaa.gov/hightower-beach-park.

If you wish to comment on the Draft EA, please send comments via email to U.S. IOOS Office at hightowerbeachpark@noaa.gov.

FOR FURTHER INFORMATION CONTACT: Mequela Moreno, U.S. Integrated Ocean Observing System (IOOS), Regions Budget & Policy Division, by email mequela.moreno@noaa.gov, by phone 240-533-9433, or by mail at 1315 East West-Highway, SSMC3, 2nd Floor, Silver Spring, MD 20910.

SUPPLEMENTARY INFORMATION: NOAA's U.S. Integrated Ocean Observing System (IOOS) Program Office has prepared a draft environmental assessment of potential impacts for the installation of a high frequency radar (HFR) at Hightower Beach Park, in the City of Satellite Beach, Florida.

The HFR would be installed south and shoreward of the parking lot at Hightower Beach Park, approximately 100 ft. (30 meters) away. Coordinates: Latitude: 28.194372° N; Longitude: 80.594403° W (WGS 84 datum).

The proposed action at Hightower Beach Park HFR installation is part of a large, on-going initiative to fill HFR coverage gaps along the southeast coastline. HFR systems measure the speed and direction of ocean surface currents in near real time. The HFR systems are managed by Southeast Coastal Ocean Observing Regional Association (SECOORA) and the Integrated Ocean Observing System (IOOS®), which is a national-regional partnership working to provide new tools and forecasts to improve safety, enhance the economy, and protect our environment. IOOS was created by the Integrated Coastal and Ocean Observation System Act of 2009 (Pub. L. 111-11), and amended by the Coordinated Ocean Observation and Research Act of 2020 (Pub. L. 116-271, Title I), codified at (33 U.S.C. 3601-3610).

Surface current mapping is integral to research, supporting oceanographic, fisheries, and meteorological forecasting activities. Surface current mapping is also vital for U.S. Coast Guard search and rescue activities, monitoring and tracking hazardous materials, monitoring water quality, including tracking harmful algal blooms, and supporting marine navigation.

IOOS proposes that the installation and operation of the HFR would have no significant impact on the environment. The EA has been prepared in accordance with the National Environmental Policy Act of 1969 (NEPA), as amended (42 U.S.C. 4321 et seq.) and Council on Environmental Quality implementing regulations (40 CFR parts 1500-1508), as well as the Integrated Coastal and Ocean Observation System Act of 2009 (Pub. L. 111-11), as amended by the Coordinated Ocean Observation and Research Act of 2020 (Pub. L. 116-271, Title I), codified at (33 U.S.C. 3601-3610).

Carl C. Gouldman,
Director, U.S. Integrated Ocean Observing System Office, National Ocean Service, National Oceanic and Atmospheric Administration.

[FR Doc. 2022-15897 Filed 7-25-22; 8:45 am]

BILLING CODE 3510-JE-P